DEPARTMENT OF THE TREASURY

Internal Revenue Service

26 CFR Part 1

[TD 9864]

RIN 1545-BO89

Contributions in Exchange for State or Local Tax Credits; Correction

AGENCY: Internal Revenue Service (IRS), Treasury.

ACTION: Final regulations; correction.

SUMMARY: This document contains a correction to final regulations under section 170 of the Internal Revenue Code (TD 9864) that were published in the Federal Register on Thursday, June 13, 2019.

DATES:

Effective date: These regulations are effective August 12, 2019.

Applicability date: June 13, 2019.

FOR FURTHER INFORMATION CONTACT: Mon L. Lam or Richard C. Gano IV at (202) 317-4059 (not a toll-free number).

SUPPLEMENTARY INFORMATION:

Background

The final regulations (TD 9864) that are the subject of this correction are issued under section 170 of the Internal Revenue Code.

Need for Correction

As published, June 13, 2019 (84 FR 27513) the final regulations (TD 9864), contain an error that need to be corrected.

Correction to Publication

Accordingly, the final regulations (TD 9864), that are the subject of FR Doc. 2019-12418, are corrected as follows:

On page 27514, in the third column, in the first full paragraph, in the nineteenth line “2019-27 I.R.B.,” is corrected to read “2019-27 I.R.B. 57,”.

Martin V. Franks,
Chief, Publications and Regulations Branch, Legal Processing Division, Associate Chief Counsel (Procedure and Administration).

[FR Doc. 2019-16496 Filed 8-1-19; 8:45 am]

BILLING CODE 4830-01-P